DEPARTMENT OF COMMERCE

U.S. Census Bureau

Submission for OMB Review; Comment Request

The Department of Commerce will submit to the Office of Management and Budget (OMB) for clearance the following proposal for collection of information under the provisions of the Paperwork Reduction Act.

Agency: U.S. Census Bureau.

Title: Current Population Survey, School Enrollment Supplement.

OMB Control Number: 0607-0464.

Form Number(s): There are no forms. We conduct all interviews on computers.

Type of Request: Reinstatement, without change, of a previously approved collection for which approval has expired.

Number of Respondents: 54,000.

Average Hours per Response: 0.05.

Burden Hours: 2,700.

Needs and Uses: These data provide basic information on the school enrollment status of various segments of the population necessary as background for policy formulation and implementation. This supplement is the only annual source of data on public/private elementary and secondary school enrollment, as well as the characteristics of private school students and their families. As part of the Federal Government's efforts to collect data and provide timely information to government entities for policymaking decisions, this supplement provides national trends in enrollment and progress in school. Consequently, this supplement is the only source of historical data at the national level on the age distribution and family characteristics of college students, and on the demographic characteristics of preprimary school enrollment.

Affected Public: Individuals or Households.

Frequency: Annually.

Respondent's Obligation: Voluntary.

Legal Authority: Title 13, United States Code, Sections 8(b), 141, and 182; and Title 29, United States Code, Section 2 authorize the Census Bureau to collect this information. The Education Sciences Reform Act of 2002 (ESRA, Title 20, United States Code, Section 9543) authorizes the National Center for Education Statistics to collect this information.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-12879 Filed 6-17-19; 8:45 am]

BILLING CODE 3510-07-P